DEPARTMENT OF DEFENSE

Office of the Secretary

Proposed Information Collection; Comment Request

AGENCY: Deputy Under Secretary of Defense for Program Integration, DoD.

ACTION: Notice.

SUMMARY: In accordance with the Paperwork Reduction Act of 1995 and its implementing regulations, the Deputy Under Secretary of Defense for Program Integration (DUSD(PI)), Department of Defense, hereby announces that it is seeking renewal of the following currently approved information collection activity. Before submitting this information collection requirement for clearance by the Office of Management and Budget (OMB), DUSD (PI) is soliciting public comment on specific aspects of the activity identified below.

DATES: Comments are due no later than June 19, 2000.

ADDRESSES: Forward comments to the Office of the Under Secretary of Defense for Personnel & Readiness, Program Integration, Legal Policy, 4000 Defense Pentagon, Washington, DC 20301-4000.

FOR FURTHER INFORMATION CONTACT: Lt Col Karen J. Kinlin, OUSD (P&R) PI-LP, 4000 Defense Pentagon, Room 4C763, Washington, DC 20301-4000; telephone (703) 697-3387; facsimile (703) 693-6708.

SUPPLEMENTARY INFORMATION: In compliance with section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

Under Title 10 U.S.C. 1552, the Secretary of a Military Department may correct any military record within their Department when the Secretary considers it necessary to correct an error or remove an injustice. The DD Form 149, “Application for Correction of Military Records Under the Provisions of Title 10 U.S. Code, section 1552,” allows and applicant to request correction of a military record. The form provides an avenue for active duty Service members and former Service personnel who believe an error is contained in their military records and/or they have suffered an injustice to request relief.

Title: Application for Correction of Military Records Under the Provisions of Title 10, United States Code, section 1552.

Applicable Form: DD Form 149.

OMB Control Number: 0704-0003.

Affected Public: Individuals or households.

Annual Burden Hours: 14,000.

Number of Respondents: 28,000

Responses Per Respondent: 1.

Average Burden Per Response: 30 minutes.

Frequency: One-time.

Dated: April 12, 2000.
Patricia L. Toppings,
Alternate OSD Federal Register Liaison Officer, Department of Defense.

[FR Doc. 00-9568 Filed 4-17-00; 8:45 am]

BILLING CODE 5001-10-M